DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Drug and Alcohol Services Information System (DASIS)—(OMB No. 0930-0106)—Revision

The DASIS consists of three related data systems: the Inventory of Substance Abuse Treatment Services (I-SATS); the National Survey of Substance Abuse Treatment Services (N-SSATS), and the Treatment Episode Data Set (TEDS). The I-SATS includes all substance abuse treatment facilities known to SAMHSA. The N-SSATS is an annual survey of all substance abuse treatment facilities listed in the I-SATS. The TEDS is a compilation of client-level admission data and discharge data submitted by States on clients treated in facilities that receive State funds. Together, the three DASIS components provide information on the location, scope and characteristics of all known drug and alcohol treatment facilities in the United States, the number of persons in treatment, and the characteristics of clients receiving services at publicly funded facilities. This information is needed to assess the nature and extent of these resources, to identify gaps in services, to provide a database for treatment referrals, and to assess demographic and substance-related trends in treatment. In addition, several National Outcome Measures (NOMS) data elements are collected in TEDS to assess the performance of the Substance Abuse Prevention and Treatment (SAPT) Block Grant.

The request for OMB approval will include a request to conduct the 2010 through 2012 N-SSATS and Mini-N-SSATS. The Mini-N-SSATS is a procedure for collecting services data from newly identified facilities between main cycles of the survey and will be used to improve the listing of treatment facilities in the on-line treatment facility Locator. The N-SSATS questionnaire is expected to remain unchanged except for minor modifications to wording. If there is a need for substantial revision to the N-SSATS questionnaire during the period of this clearance, a supplemental request for clearance will be submitted.

The OMB request will also include the collection of TEDS data, including the addition of two new NOMS data elements to the TEDS client-level record. To the extent that states already collect the elements from their treatment providers, the following elements will be included in the TEDS data collection: Frequency of attendance at self-help programs in past 30 days at admission; and frequency of attendance at self-help programs in past 30 days at discharge. No significant changes are expected in the other DASIS activities.

Estimated annual burden for the DASIS activities is shown below:

Type of respondent and activity | Number of respondents | Responses per respondent | Hours per response | Total burden hours
States:
TEDS Admission Data | 52 | 4 | 6.25 | 1,300
TEDS Discharge Data | 52 | 4 | 8.25 | 1,716
TEDS Discharge Crosswalks | 5 | 1 | 10 | 50
I-SATS Update ¹ | 56 | 70 | .08 | 314
State Subtotal | 56 |  |  | 3,380
Facilities:
I-SATS Update ² | 200 | 1 | .08 | 16
N-SSATS questionnaire | 17,000 | 1 | .67 | 11,390
Augmentation screener | 1,000 | 1 | .08 | 80
Mini N-SSATS | 2,000 | 1 | .42 | 840
Facility Subtotal | 20,200 |  |  | 12,326
Total | 20,256 |  |  | 15,706
¹ States forward to SAMHSA information on newly licensed/approved facilities and on changes in facility name, address, status, etc. This is submitted electronically by nearly all States.
² Facilities forward to SAMHSA information on new facilities and on changes to existing facilities. This is submitted by e-mail by nearly all facilities.

Written comments and recommendations concerning the proposed information collection should be sent by August 31, 2009 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: July 27, 2009.
Elaine Parry,
Director, Office of Program Services.

[FR Doc. E9-18313 Filed 7-30-09; 8:45 am]

BILLING CODE 4162-20-P